DEPARTMENT OF TRANSPORTATION

Federal Aviation Administration

14 CFR Part 39

[Docket No. 2000-NM-38-AD; Amendment 39-12024; AD 2000-24-17]

RIN 2120-AA64

Airworthiness Directives; McDonnell Douglas Model MD-11 Series Airplanes

AGENCY: Federal Aviation Administration, DOT.

ACTION: Final rule.

SUMMARY: This amendment supersedes an existing airworthiness directive (AD), applicable to certain McDonnell Douglas Model MD-11 series airplanes, that currently requires deactivation of the forward and center cargo control units (CCU). This amendment requires, among other actions, a general visual inspection to verify that all six external connectors of suspect CCU's have a certain part number stamped on the connector bodies on all CCU assemblies, and follow-on actions, which would constitute terminating action for the deactiviation requirements. The actions specified by this amendment are intended to prevent overheating of the electrical pins inside the CCU's and subsequent release of hot gases and flames, which could result in smoke and fire in the cargo compartment.

DATES: Effective January 8, 2001.

The incorporation by reference of certain publications listed in the regulations is approved by the Director of the Federal Register as of January 8, 2001.

ADDRESSES: The service information referenced in this AD may be obtained from Boeing Commercial Aircraft Group, Long Beach Division, 3855 Lakewood Boulevard, Long Beach, California 90846, Attention: Technical Publications Business Administration, Dept. C1-L51 (2-60). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Brett Portwood, Aerospace Engineer, Systems and Equipment Branch, ANM-130L, FAA, Los Angeles Aircraft Certification Office, 3960 Paramount Boulevard, Lakewood, California 90712-4137; telephone (562) 627-5350; fax (562) 627-5210.

SUPPLEMENTARY INFORMATION: A proposal to amend part 39 of the Federal Aviation Regulations (14 CFR part 39) by superseding AD 2000-08-03, amendment 39-11689 (65 FR 21134, April 20, 2000), which is applicable to certain McDonnell Douglas Model MD-11 series airplanes, was published in the Federal Register on July 27, 2000 (65 FR 46223). The action proposed to continue to require deactivation of the forward and center cargo control units (CCU). The action also proposed to require, among other actions, a general visual inspection to verify that all six external connectors of suspect CCU's have a certain part number stamped on the connector bodies on all CCU assemblies, and follow-on actions, which would constitute terminating action for the deactiviation requirements.

Comments

Interested persons have been afforded an opportunity to participate in the making of this amendment. No comments were submitted in response to the proposal or the FAA's determination of the cost to the public.

Conclusion

The FAA has determined that air safety and the public interest require the adoption of the rule as proposed.

Cost Impact

There are approximately 104 Model MD-11 series airplanes of the affected design in the worldwide fleet. The FAA estimates that 20 airplanes of U.S. registry will be affected by this AD.

The actions that are currently required by AD 2000-08-03 take approximately 1 work hour per airplane to accomplish, at an average labor rate of $60 per work hour. Based on these figures, the cost impact of the currently required actions on U.S. operators is estimated to be $1,200, or $60 per airplane.

The new inspection that is required in this AD action will take approximately 1 work hour per airplane to accomplish, at an average labor rate of $60 per work hour. Based on these figures, the cost impact of the inspection required by this AD on U.S. operators is estimated to be $1,200, or $60 per airplane.

Should an operator be required to accomplish the new modification that is required in this AD action, it will take approximately 1 work hour per airplane to accomplish, at an average labor rate of $60 per work hour. Required parts will be supplied by the manufacturer of the CCU at no cost to the operators. Based on these figures, the cost impact of the modification required by this AD on U.S. operators is estimated to be $60 per airplane.

Should an operator be required to accomplish the new replacement that is required in this AD action, it will take approximately 1 work hour per airplane to accomplish, at an average labor rate of $60 per work hour. Required parts will be supplied by the manufacturer of the CCU at no cost to the operators. Based on these figures, the cost impact of the replacement required by this AD on U.S. operators is estimated to be $60 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11689 (65 FR 21134, April 20, 2000), and by adding a new airworthiness directive (AD), amendment 39-12024, to read as follows:

2000-24-17 McDonnell Douglas: Amendment 39-12024. Docket 2000-NM-38-AD. Supersedes AD 2000-08-03, Amendment 39-11689.

Applicability: Model MD-11 series airplanes, certificated in any category, having the serial numbers listed below.

Group 1 Airplanes

48565 | 48566 | 48533 | 48549 | 48470 | 48406
48504 | 48602 | 48603 | 48571 | 48439 | 48605
48572 | 48471 | 48573 | 48600 | 48601 | 48633
48513 | 48574 | 48575 | 48542 | 48543 | 48576
48415 | 48631 | 48544 | 48632 | 48577 | 48545
48578 | 48546 | 48743 | 48744 | 48747 | 48748
48745 | 48746 | 48749 | 48579 | 48766 | 48768
48767 | 48769 | 48754 | 48623 | 48770 | 48753
48773 | 48774 | 48755 | 48758 | ¹ 48775-48779
48624 | 48756 | 48780 | 48532
¹ Inclusive.

Group 2 Airplanes:

48555 | 48556 | 48581 | 48630 | 48557 | 48539
48558 | 48559 | 48616 | 48560 | 48617 | 48618
48561 | 48629 | 48562 | 48563 | 48757 | 48540
48564 | 48634 | 48541 | 48798 | ¹ 48781-48792
48794 | 48799 | 48801 | 48800 | ¹ 48802-48806
¹ Inclusive.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (f) of this AD. The request should include an assessment of the effect of the modification, alteration, or repair on the unsafe condition addressed by this AD; and, if the unsafe condition has not been eliminated, the request should include specific proposed actions to address it.

Compliance: Required as indicated, unless accomplished previously.

To prevent overheating of the electrical pins inside the cargo control units (CCU) and subsequent release of hot gases and flames, which could result in smoke and fire in the cargo compartment, accomplish the following:

Restatement of Requirements of AD 2000-05-01

Deactivation

(a) For Group 1 airplanes having serial numbers other than that identified in paragraph (c) of this AD: Within 15 days after March 20, 2000 (the effective date of AD 2000-05-01, amendment 39-11610), deactivate the forward and center CCU's in accordance with the following procedures:

(1) Remove the access panel to the forward cargo compartment CCU circuit breaker panel located at fuselage station 1009.300 (right side looking aft). Pull and collar the following circuit breakers:

B1-506 | B1-489 | B1-488 | B1-487 | B1-486
B1-485 | B1-480 | B1-481 | B1-498 | B1-482
B1-500 | B1-495 | B1-499 | B1-490

(2) Remove the access panel to the center cargo compartment CCU circuit breaker panel located at fuselage station 1701.000 (right side looking aft). Pull and collar the following circuit breakers:

B1-552 | B1-762 | B1-761 | B1-760 | B1-759
B1-758 | B1-518 | B1-519 | B1-751 | B1-520
B1-753 | B1-764 | B1-752 | B1-763

(b) For Group 2 airplanes having serial numbers other than that identified in paragraph (c) of this AD: Within 15 days after March 20, 2000, deactivate the forward and center CCU's in accordance with the following procedures:

(1) Remove the access panel to the forward cargo compartment CCU circuit breaker panel located at fuselage station 1009.300 (right side looking aft). Pull and collar the following circuit breakers:

B1-506 | B1-489 | B1-488 | B1-487 | B1-486
B1-485 | B1-480 | B1-481 | B1-498 | B1-482
B1-500 | B1-495 | B1-499 | B1-490

(2) Remove the access panel to the center cargo compartment CCU circuit breaker panel located at fuselage station 1701.000 (right side looking aft). Pull and collar the following circuit breakers:

B1-552 | B1-762 | B1-761 | B1-760 | B1-759
B1-758 | B1-518 | B1-519 | B1-751 | B1-520
B1-753 | B1-764 | B1-752

Restatement of Requirements of AD 2000-08-03

Deactivation

(c) For Group 1 airplane, serial number 48769, and for Group 2 airplane, serial number 48563: Within 15 days after May 5, 2000 (the effective date of AD 2000-08-03, amendment 39-11689), accomplish the actions specified in either paragraph (a) or (b) of this AD, as applicable.

New Requirements of This AD

Inspection and Modification/Reidentification, If Necessary

(d) For Group 1 and Group 2 airplanes: Within 90 days after the effective date of this AD, perform an inspection to determine the part number of the CCU's.

(1) If both CCU's have part number (P/N) 462650-21, 462650-22, or 462650-23, the deactivation specified in paragraphs (a), (b), and (c) of this AD is no longer required, and the CCU's may be reactivated.

(2) If any CCU has a part number (P/N) other than 462650-21, 462650-22, or 462650-23, within 90 days after the effective date of this AD, perform a general visual inspection to verify that all six external connectors of the CCU have P/N M83723/71XXXXXX or P/N M83723/72XXXXXX stamped on the connector bodies on all TRW Aeronautical Systems, Lucas Aerospace, CCU assemblies, in accordance with Boeing Alert Service Bulletin MD11-25A253, dated March 10, 2000.

Note 2: McDonnell Douglas Service Bulletin MD11-25A253, dated March 10, 2000, references TRW Aeronautical Systems, Lucas Aerospace Alert Service Bulletin 462650-25-A01, dated March 10, 2000, as an additional source of service information to accomplish the inspection described above and corrective actions described below.

(i) If any connector has a P/N other than M83723/71XXXXXX or M83723/72XXXXXX, prior to further flight, replace the CCU with a spare CCU from the operator's stock that has one of the following P/N: 462650-21, 462650-22, or 462650-23. Following accomplishment of the replacement, the deactivation specified in paragraphs (a), (b), and (c) of this AD is no longer required, and the CCU's may be reactivated.

(ii) If any connector has P/N M83723/71XXXXXX or P/N M83723/72XXXXXX, prior to further flight, modify the rear cover (40) of the CCU assembly (including aligning the center hole of the insulator with the center hole on the rear cover (40), and ensuring that the top edge of the insulator is parallel to the top edge of the rear cover), and reidentify the CCU, in accordance with the service bulletin. Following accomplishment of the modification, the deactivation specified in paragraphs (a), (b), and (c) of this AD is no longer required, and the CCU's may be reactivated.

Spares

(e) As of the effective date of this AD, no person shall install on any airplane any part (identified under “Key Word”), having a “Spare Part No.” listed in paragraph 2.D., “Parts Necessary to Change Spares,” of Boeing Alert Service Bulletin MD11-25A253, dated March 10, 2000.

Alternative Methods of Compliance

(f) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 3: Information concerning the existence of approved alternative methods of compliance with this AD, if any, may be obtained from the Los Angeles ACO.

Special Flight Permits

(g) Special flight permits may be issued in accordance with sections 21.197 and 21.199 of the Federal Aviation Regulations (14 CFR 21.197 and 21.199) to operate the airplane to a location where the requirements of this AD can be accomplished.

Incorporation by Reference

(h) The actions required by paragraphs (d)(2), (d)(2)(i) and (d)(2)(ii) shall be done in accordance with Boeing Alert Service Bulletin MD11-25A253, dated March 10, 2000. This incorporation by reference was approved by the Director of the Federal Register in accordance with 5 U.S.C. 552(a) and 1 CFR part 51. Copies may be obtained from Boeing Commercial Aircraft Group, Long Beach Division, 3855 Lakewood Boulevard, Long Beach, California 90846, Attention: Technical Publications Business Administration, Dept. C1-L51 (2-60). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(i) This amendment becomes effective on January 8, 2001.

Issued in Renton, Washington, on November 22, 2000.
Donald L. Riggin,
Acting Manager, Transport Airplane Directorate, Aircraft Certification Service.

[FR Doc. 00-30442 Filed 12-1-00; 8:45 am]

BILLING CODE 4910-13-P